DEPARTMENT OF ENERGY

Federal Energy Regulatory Commission

Combined Notice of Filings #1

Take notice that the Commission received the following electric rate filings:

Docket Numbers: ER10-1910-005; ER10-1908-005; ER10-1909-005; ER10-1911-005; ER10-1533-006; ER12-674-003; ER12-670-003.

Applicants: Duquesne Conemaugh LLC, Duquesne Keystone LLC, Duquesne Light Company, Duquesne Power, LLC, Macquarie Energy LLC, Rhode Island Engine Genco, LLC, Rhode Island LFG Genco, LLC.

Description: Triennial Market Power Update for Northeast Region of Duquesne Light Company, et. al.

Filed Date: 12/31/13.

Accession Number: 20131231-5279.

Comments Due: 5 p.m. ET 3/314.

Docket Numbers: ER10-2010-003; ER10-1959-002; ER10-2007-002; ER10-2013-002; ER12-1780-001; ER10-2015-002; ER10-2017-002; ER10-2021-002; ER10-2011-006; ER10-2014-002; ER10-1714-004; ER10-2019-003; ER10-2018-002; ER10-2020-001; ER10-1511-004; ER10-2231-003.

Applicants: PPL Electric Utilities Corporation, Lower Mount Bethel Energy, LLC, PPL Brunner Island, LLC, PPL Holtwood, LLC, PPL Ironwood, LLC, PPL Martins Creek, LLC, PPL Montour, LLC, PPL Susquehanna, LLC, PPL EnergyPlus, LLC, PPL Maine, LLC, PPL New Jersey Solar, LLC, PPL New Jersey Biogas, LLC, PPL Renewable Energy, LLC, Louisville Gas and Electric Company, Kentucky Utilities Company, LG&E Energy Marketing Inc.

Description: Triennial Market-Based Rate Update of the PPL Northeast Companies under ER10-2010, et al.

Filed Date: 12/31/13.

Accession Number: 20131231-5277.

Comments Due: 5 p.m. ET 3/3/14.

Docket Numbers: ER10-2847-001; ER10-2818-001; ER10-2806-001; ER10-1948-003.

Applicants: TransAlta Centralia Generation LLC, TransAlta Energy Marketing Corporation, TransAlta Energy Marketing (US) Inc., FPL Energy Wyoming, LLC.

Description: Triennial Market Power Analysis in Northwest Region and Notice of Change in Status of the Transalta MBR Entities.

Filed Date: 12/31/13.

Accession Number: 20131231-5278.

Comments Due: 5 p.m. ET 3/3/14.

Docket Numbers: ER14-353-001.

Applicants: NorthWestern Corporation.

Description: Errata to Order No. 764 Compliance Filing (South Dakota) to be effective 1/7/2014.

Filed Date: 12/31/13.

Accession Number: 20131231-5259.

Comments Due: 5 p.m. ET 1/21/14.

Docket Numbers: ER14-922-000.

Applicants: Illinois Power Generating Company.

Description: Notice of Succession for Market-Based Rate Tariff to be effective 12/2/2013.

Filed Date: 12/31/13.

Accession Number: 20131231-5223.

Comments Due: 5 p.m. ET 1/21/14.

Docket Numbers: ER14-923-000.

Applicants: Illinois Power Generating Company.

Description: Notice of Succession for Reactive Service Rate Schedule to be effective 12/2/2013.

Filed Date: 12/31/13.

Accession Number: 20131231-5227.

Comments Due: 5 p.m. ET 1/21/14.

Docket Numbers: ER14-924-000.

Applicants: Illinois Power Resources Generating, LLC.

Description: Notice of Succession for Market-Based Rate Tariff to be effective 12/2/2013.

Filed Date: 12/31/13.

Accession Number: 20131231-5230.

Comments Due: 5 p.m. ET 1/21/14.

Docket Numbers: ER14-925-000.

Applicants: Illinois Power Resources Generating, LLC.

Description: Notice of Succession for Reactive Service Rate Schedule to be effective 12/2/2013.

Filed Date: 12/31/13.

Accession Number: 20131231-5233.

Comments Due: 5 p.m. ET 1/21/14.

Docket Numbers: ER14-926-000.

Applicants: Solar Partners II, LLC.

Description: Solar II Tariff Amendment to be effective 1/1/2014.

Filed Date: 12/31/13.

Accession Number: 20131231-5235.

Comments Due: 5 p.m. ET 1/21/14.

Docket Numbers: ER14-927-000.

Applicants: Solar Partners I, LLC.

Description: Solar I Tariff Amendment to be effective 1/1/2014.

Filed Date: 12/31/13.

Accession Number: 20131231-5240.

Comments Due: 5 p.m. ET 1/21/14.

Docket Numbers: ER14-928-000.

Applicants: PacifiCorp.

Description: Filing and terminating formerly unfiled generator interconnection agreements of PacifiCorp's merchant function.

Filed Date: 12/31/13.

Accession Number: 20131231-5248.

Comments Due: 5 p.m. ET 1/21/14.

Docket Numbers: ER14-929-000.

Applicants: PacifiCorp.

Description: PAC Energy NITSA Rev 17 to be effective 3/1/2014.

Filed Date: 12/31/13.

Accession Number: 20131231-5257.

Comments Due: 5 p.m. ET 1/21/14.

Docket Numbers: ER14-930-000.

Applicants: New England Power Pool Participants Committee.

Description: January 2014 Membership Filing to be effective 1/1/2014.

Filed Date: 12/31/13.

Accession Number: 20131231-5258.

Comments Due: 5 p.m. ET 1/21/14.

Docket Numbers: ER14-931-000.

Applicants: Nevada Power Company.

Description: Rate Schedule No. 111 RPPA Tuscarora-Cancellation to be effective 1/1/2014.

Filed Date: 12/31/13.

Accession Number: 20131231-5260.

Comments Due: 5 p.m. ET 1/21/14.

Docket Numbers: ER14-932-000.

Applicants: Nevada Power Company.

Description: Rate Schedule No. 116 RPPA Waste Management—Cancellation to be effective 1/1/2014.

Filed Date: 12/31/13.

Accession Number: 20131231-5261.

Comments Due: 5 p.m. ET 1/21/14.

Docket Numbers: ER14-933-000.

Applicants: Nevada Power Company.

Description: Rate Schedule No. 124 RPPA McGinness Hills—Cancellation to be effective 1/1/2014.

Filed Date: 12/31/13.

Accession Number: 20131231-5262.

Comments Due: 5 p.m. ET 1/21/14.

Docket Numbers: ER14-936-000.

Applicants: Sierra Pacific Power Company.

Description: Notice of cancellation of RPPA Electric Rate Schedule No. 54 of Sierra Pacific Power Company.

Filed Date: 12/31/13.

Accession Number: 20131231-5281.

Comments Due: 5 p.m. ET 1/21/14.

Docket Numbers: ER14-937-000.

Applicants: Nevada Power Company.

Description: Notice of cancellation of RPPA Electric Rate Schedule No. 93 of Nevada Power Company.

Filed Date: 12/31/13.

Accession Number: 20131231-5286.

Comments Due: 5 p.m. ET 1/21/14.

Docket Numbers: ER14-938-000.

Applicants: Nevada Power Company.

Description: Notice of cancellation of RPPA Electric Rate Schedule No. 108 of Nevada Power Company.

Filed Date: 12/31/13.

Accession Number: 20131231-5287.

Comments Due: 5 p.m. ET 1/21/14.

Docket Numbers: ER14-939-000.

Applicants: Nevada Power Company.

Description: Notice of cancellation of RPPA Electric Rate Schedule No. 107 of Nevada Power Company.

Filed Date: 12/31/13.

Accession Number: 20131231-5288.

Comments Due: 5 p.m. ET 1/21/14.

Docket Numbers: ER14-940-000.

Applicants: Nevada Power Company.

Description: Notice of cancellation of RPPA Electric Rate Schedule No. 106 of Nevada Power Company.

Filed Date: 12/31/13.

Accession Number: 20131231-5289.

Comments Due: 5 p.m. ET 1/21/14.

Docket Numbers: ER14-941-000.

Applicants: Nevada Power Company.

Description: Notice of cancellation of RPPA Electric Rate Schedule No. 92 of Nevada Power Company.

Filed Date: 12/31/13.

Accession Number: 20131231-5290.

Comments Due: 5 p.m. ET 1/21/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 2, 2014.
Nathaniel J. Davis, Sr.,
Deputy Secretary.

[FR Doc. 2014-00431 Filed 1-13-14; 8:45 am]

BILLING CODE 6717-01-P